DEPARTMENT OF COMMERCE

Foreign-Trade Zones Board

[B-56-2018]

Proposed Foreign-Trade Zone—Lufkin, Texas, Under Alternative Site Framework

An application has been submitted to the Foreign-Trade Zones (FTZ) Board by the City of Lufkin to establish a foreign-trade zone in Lufkin, Texas, within the Port Arthur-Beaumont CBP port of entry, under the alternative site framework (ASF) adopted by the FTZ Board (15 CFR Sec. 400.2(c)). The ASF is an option for grantees for the establishment or reorganization of zones and can permit significantly greater flexibility in the designation of new “subzones” or “usage-driven” FTZ sites for operators/users located within a grantee's “service area” in the context of the FTZ Board's standard 2,000-acre activation limit for a zone project. The application was submitted pursuant to the provisions of the Foreign-Trade Zones Act, as amended (19 U.S.C. 81a-81u), and the regulations of the Board (15 CFR part 400). It was formally docketed on September 5, 2018. The applicant is authorized to make the proposal under Texas Statutes, Business and Commerce Code, Title 15, Chapter 681.

The proposed zone would be the fourth zone for the Port Arthur-Beaumont CBP port of entry. The existing zones—FTZ 115, Beaumont; FTZ 116, Port Arthur; and, FTZ 117, Orange—were approved on March 20, 1985 (Board Oder 296). The Foreign-Trade Zone of Southeast Texas, Inc., is the grantee of FTZs 115, 116 and 117.

The applicant's proposed service area under the ASF would be the City of Lufkin and a portion of its Extra Territorial Jurisdiction, as described in the application. If approved, the applicant would be able to serve sites throughout the service area based on companies' needs for FTZ designation. The applicant has indicated that the proposed service area is within the Port Arthur-Beaumont Customs and Border Protection port of entry.

The application indicates a need for zone services in the City of Lufkin area. Several firms have indicated an interest in using zone procedures. Specific production approvals are not being sought at this time. Such requests would be made to the FTZ Board on a case-by-case basis.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is November 13, 2018. Rebuttal comments in response to material submitted during the foregoing period may be submitted during the subsequent 15-day period to November 26, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Camille Evans at Camille.Evans@trade.gov or (202) 482-2350.

Dated: September 5, 2018.
Andrew McGilvray,
Executive Secretary.

[FR Doc. 2018-19701 Filed 9-10-18; 8:45 am]

BILLING CODE 3510-DS-P